DEPARTMENT OF EDUCATION

[CFDA No. 84.209A]

The Native Hawaiian Family-Based Education Centers Program

AGENCY: Department of Education.

ACTION: Notice inviting applications for new awards for Fiscal Year (FY) 2001.

Purpose of Program: To expand the operation, throughout the Hawaiian Islands, of Family-Based Education Centers that include: (1) Parent-infant programs for prenatal through three-year-olds; (2) preschool programs for four- and five-year-olds; (3) continued research and development; and (4) a long-term follow-up and assessment program, which may include educational support services for Native Hawaiian language immersion programs or transition to English speaking programs.

Eligible Applicants: Native Hawaiian educational organizations or educational entities with experience in developing or operating Native Hawaiian programs or programs of instruction conducted in the Native Hawaiian language.

Applications Available: June 11, 2001.

Deadline for Transmittal of Applications: July 26, 2001.

Estimated Available Funds: $2.5 million.

Estimated Range of Awards: $500,000 to $1.0 million.

Estimated Number of Awards: 5.

Note: These estimates are projections for the guidance of potential applicants. The Department is not bound by any estimates in this notice.

Project Period: Up to 36 months.

Applicable Regulations: The Education Department General Administrative Regulations (EDGAR) in 34 CFR parts 74, 75, 77, 79, 80, 81, 82, 86, 97, 98, and 99.

Selection Criteria: The Secretary will use the following selection criteria in 34 CFR 75.210 to evaluate applications under this competition. (The specific selection criteria and factors that will be used in evaluating applications are detailed in the application package.) The maximum score for all of the selection criteria is 100 points. The maximum points for each criterion is as follows:

(a) Significance—15 points.

(b) Quality of Project Design—35 points.

(c) Quality of Project Personnel—10 points.

(d) Adequacy of Resources—5 points.

(e) Quality of Management Plan—15 points.

(f) Quality of Project Evaluation—20 points.

For Applications and Information Contact: Mrs. Lynn Thomas, (202) 260-1541, U.S. Department of Education, 400 Maryland Avenue, SW., FOB6, Room 3C124, Mail Stop 6140, Washington, DC 20202. The e-mail address for Mrs. Thomas is: lynn.thomas@ed.gov.

Individuals who use a telecommunications device for the deaf (TDD) may call the Federal Information Relay Service (FIRS) at 1-800-877-8339.

Individuals with disabilities may obtain this document in an alternative format (e.g., Braille, large print, audiotape, or computer diskette) on request to the contact person listed.

Individuals with disabilities may also obtain a copy of the application package in an alternative format on request to the contact person listed above. However, the Department is not able to reproduce in an alternative format the standard forms included in the application package.

Electronic Access to This Document

You may view this document, as well as other Department of Education documents published in the Federal Register, in text or portable document format (PDF) on the Internet at the following site: www.ed.gov/legislation/FedRegister.

To use PDF you must have Adobe Acrobat Reader, which is available free at this site. If you have questions about using PDF, call the U.S. Government Printing Office, toll free, at 1-888-293-6498, or in the Washington, DC area at (202) 512-1530.

Note: The official version of this document is the document published in the Federal Register. Free Internet access to the official edition of the Federal Register and the Code of Federal Regulations is available on GPO Access at: http://www.access.gpo.gov/nara/index.html.

Program Authority: 20 U.S.C. 7907.

Dated: June 5, 2001.
Thomas M. Corwin,
Acting Deputy Assistant Secretary for Elementary and Secondary Education.

[FR Doc. 01-14766 Filed 6-8-01; 8:45 am]

BILLING CODE 4000-01-M